DEPARTMENT OF STATE

[Public Notice 3815]

Bureau of Educational and Cultural Affairs Request for Grant Proposals: U.S.-Based Training Program (USBT)

SUMMARY: The Educational Information and Resources Branch of the Office of Global Educational Programs of the Bureau of Educational and Cultural Affairs announces an open competition for the U.S. Based Training Program for Overseas Educational Advisers and logistical support for the annual meeting of the Department's Regional Educational Advising Coordinators (REACs). Public and private non-profit organizations meeting the provisions described in IRS regulations 26 CFR 1.501(c)(2)-1 through 1.501(c)(21)-2 may submit proposals to develop two training programs for Department of State-affiliated overseas advisers to take place in spring and fall 2002. The basic function of an overseas educational adviser is to provide accurate, objective information to foreign audiences on U.S. study opportunities at accredited academic institutions, and to guide students and professionals in selecting a program appropriate to their needs. USBT participants will be drawn from educational advisers working at Department of State-affiliated overseas educational advising centers. Each training program is intended for approximately fourteen participants. The program must be approximately three weeks in duration and must include workshops on advising issues of concern, visits to a variety of U.S. academic institutions outside of the Washington, DC metropolitan area and attendance at a national or regional NAFSA: Association of International Educators Conference or similar professional development opportunity. The Bureau anticipates awarding up to $310,000 to one organization to administer this program.

Program Information

Overview

The USBT program's objectives are twofold: To strengthen and develop the skills of overseas educational advisers; and to build a corps of knowledgeable advisers who are skilled trainers and can advance the field of educational advising in their home countries with new and current expertise, techniques and knowledge of applicable technology.

Each component of the training program should be designed to provide detailed, hands-on learning in areas such as facilitating access to U.S. higher education, communicating cross-culturally, and managing an advising center. Special attention should be given to the use of technology, both as a necessary advising skill, and as a potential tool to develop new and creative advising approaches. Similarly, a significant emphasis should be placed on outreach, partnership and cost-sharing strategies and skills development. The logistical support sought for the annual Regional Educational Advising Coordinators (REAC) meeting includes making lodging and other arrangements for up to eight REACs and Educational Information and Resources Branch (ECA/A/S/A) program staff for one week of consultations in Washington, DC immediately before or after the 2002 NAFSA Conference. REACs provide training and needs assessment and serve as the chief resource to the centers in their region on advising and other educational issues. In addition, REACs serve as liaisons between advising centers and U.S. colleges, universities, professional associations and other organizations involved in international educational exchange.

Guidelines

1. Participants

For the purposes of this RFGP, eligible advisers are defined as those who are currently working at a State Department-affiliated Center and who have demonstrated the skills associated with the four major components of overseas educational advising: (1) Basic knowledge of the U.S. and home country educational systems; (2) basic knowledge of the application process for individuals to enroll in U.S. higher educational institutions; (3) demonstrated educational advising and cross-cultural communication skills; and (4) demonstrated office management skills as they relate to an overseas advising center. In addition, each participant must demonstrate leadership and a commitment to the profession. Approximately fourteen participants are expected for each training program. Participants will be selected by the ECA/A/S/A based on nominations from overseas posts.

2. Program Design

The Bureau invites organizations to submit creative and flexible program plans which can be tailored, in close consultation with ECA/A/S/A, to the selected advisers' individual needs. However, the proposal should still include an overall project framework which identifies objectives, an implementation plan and measurable, expected outcomes.

Possible topics to incorporate in the program include: Degree equivalency and accreditation; international student admissions; financial aid; standardized testing; ESL programs; immigration and visa issues; fields of study; cultural adjustment; U.S. societal diversity; specialized Internet usage; distance learning; proposal writing; fundraising; public relations and marketing; determining appropriate fees for advising services for students and others, given each host country's environment; trends in advising center cost sharing and training and management of volunteer staff.

3. Timing/Program Phases

The program should include attendance at, and active participation in, an appropriate national or regional conference where workshops and seminars address issues of current interest to international educators and overseas advisers and where the opportunity to brainstorm and to share information plays an important part. Advisers should have opportunities to present and/or participate in panels and pre-conference/conference workshops. In addition, the program should include internship experiences and visits to a four-year public university, a private college or university, a community college, an Historically Black College or University (HBCU) or other minority-serving institution, and a graduate or research institution. Ideally, advisers should visit campuses while classes are in session to optimize their experience through interaction with students.

4. Logistics

The grantee organization will be responsible for arrangements associated with this program. These include organizing a coherent progression of activities, providing international and domestic travel arrangements for all advisers, making lodging and local transportation arrangements, orienting and debriefing advisers, preparing any necessary support material, and recruiting host campuses. The organization should work with host campuses and experts in the field of higher education and overseas advising to achieve maximum program effectiveness, by providing participants with hands-on applications and training and direct involvement in the administration of practices and policies in institutions of higher education.

5. Evaluation/Follow-Up

The proposal must include a detailed evaluation and follow-up plan. Special emphasis should be given to designing a program which incorporates outcome measurement strategies that assess its ultimate effectiveness.

6. Visa/Insurance/Tax Requirements

The program must comply with applicable visa regulations.

Participant health and accident insurance will be provided to the overseas advisers by the Bureau; the recipient organization will be responsible for enrolling participants in the Bureau's insurance program and providing any necessary assistance should medical care be needed. Administration of the program must be in compliance with reporting and withholding regulations for federal, state, and local taxes as applicable. Recipient organizations should demonstrate tax regulation adherence in the proposal narrative and budget.

7. Printed Materials

Drafts of all printed materials developed for this program should be submitted to ECA/A/S/A for review and approval. All official documents should highlight the U.S. government's role as program sponsor and funding source. The Bureau requires that it receive the copyright use and be allowed to distribute this material as it sees fit.

Budget Guidelines

Grants awarded to eligible organizations with less than four years of experience in conducting international exchange programs will be limited to $60,000. The Bureau anticipates awarding one grant in the amount of $310,000 to support program and administrative costs required to implement this program. Therefore, organizations with less than four years of experience in conducting international exchange programs are ineligible to apply for this grant. The Bureau encourages applicants to provide maximum levels of cost-sharing and funding from private sources in support of its programs.

Applicants must submit a comprehensive budget for the entire program. There must be a summary budget as well as breakdowns reflecting both administrative and program budgets. Applicants may provide separate sub-budgets for each program component, phase, location, or activity to provide clarification.

Allowable costs for the program include the following:

(1) Salaries and fringe benefits; travel and per diem;

(2) Other direct costs, inclusive of rent, utilities, etc.;

(3) Indirect expenses (except against participant program expenses), auditing costs;

(4) Participant program costs; i.e., international/domestic travel, per diem, conference attendance. Please refer to the Solicitation Package for complete budget guidelines and formatting instructions.

Programs must comply with visa regulations. Please refer to Solicitation Package for further information.

Announcement Title and Number: All correspondence with the Bureau concerning this RFGP should reference the above title and number ECA/A/S/A-02-05.

FOR FURTHER INFORMATION CONTACT: The Educational Information and Resources Branch, ECA/A/S/A, room 349, U.S. Department of State, 301 4th Street, SW., Washington, DC 20547, phone: 202-260-6936, fax: 202-401-1433 to request a Solicitation Package. The Solicitation Package contains detailed award criteria, required application forms, specific budget instructions, and standard guidelines for proposal preparation. Please specify Bureau Program Officer Dorothy Mora on all other inquiries and correspondence.

Please read the complete Federal Register announcement before sending inquiries or submitting proposals. Once the RFGP deadline has passed, Bureau staff may not discuss this competition with applicants until the proposal review process has been completed.

To Download a Solicitation Package Via Internet: The entire Solicitation Package may be downloaded from the Bureau's Web site at http://exchanges.state.gov/education/RFGPs. Please read all information before downloading.

Deadline for Proposals: All proposal copies must be received at the Bureau of Educational and Cultural Affairs by 5 p.m. Washington, DC time on Friday, November 16, 2001. Faxed documents will not be accepted at any time. Documents postmarked the due date but received on a later date will not be accepted. Each applicant must ensure that the proposals are received by the above deadline.

Applicants must follow all instructions in the Solicitation Package. The original and eight copies of the application should be sent to: U.S. Department of State, SA-44, Bureau of Educational and Cultural Affairs, Ref.: ECA/A/S/A-02-05, Program Management, ECA/EX/PM, Room 534 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.”

Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards for cooperative agreements resides with the Bureau's Grants Officer.

Review Criteria

Technically eligible applications will be competitively reviewed according to the criteria stated below. These criteria are not rank ordered and all carry equal weight in the proposal evaluation:

1. Quality of the Program Idea

Proposals should exhibit originality, substance, precision, and relevance to the Bureau's mission.

2. Program Planning

Detailed agenda and relevant work plan should demonstrate substantive undertakings and logistical capacity. Agenda and plan should adhere to the program overview and guidelines described above.

3. Ability To Achieve Program Objectives

Objectives should be reasonable, feasible, and flexible. Proposals should clearly demonstrate how the institution will meet the program's objectives and plan.

4. Multiplier Effect/Impact

Proposed programs should strengthen long-term mutual understanding, including maximum sharing of information and establishment of long-term institutional and individual linkages.

5. Support of Diversity

Proposals should demonstrate substantive support of the Bureau's policy on diversity. Achievable and relevant features should be cited in both program administration (program venue and program evaluation) and program content (orientation and wrap-up sessions, program meetings, resource materials and follow-up activities).

6. Institutional Capacity

Proposed personnel and institutional resources should be adequate and appropriate to achieve the program or project's goals.

7. Institution's Record/Ability

Proposals should demonstrate an institutional record of successful exchange programs, including responsible fiscal management and full compliance with all reporting requirements for past Bureau grants as determined by Bureau Grant Staff. The Bureau will consider the past performance of prior recipients and the demonstrated potential of new applicants.

8. Follow-On Activities

Proposals should provide a plan for continued follow-on activity (without Bureau support) ensuring that Bureau supported programs are not isolated events.

9. Project Evaluation

Proposals should include a plan to evaluate the activity's success, both as the activities unfold and at the end of the program. A draft survey questionnaire or other technique plus description of a methodology to use to link outcomes to original project objectives is recommended. Successful applicants will be expected to submit intermediate reports after each project component is concluded or quarterly, whichever is less frequent.

10. Cost-Effectiveness

The overhead and administrative components of the proposal, including salaries and honoraria, should be kept as low as possible. All other items should be necessary and appropriate.

11. Cost-Sharing

Proposals should maximize cost-sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: October 5, 2001.
Patricia S. Harrison,
Assistant Secretary for Educational and Cultural Affairs, U.S. Department of State.

[FR Doc. 01-26120 Filed 10-17-01; 8:45 am]

BILLING CODE 4710-05-P